DEPARTMENT OF HEALTH AND HUMAN SERVICES

National Institutes of Health

National Institute of Allergy and Infectious Diseases; Notice of Meeting

Pursuant to section 10(a) of the Federal Advisory Committee Act, as amended (5 U.S.C. App.), notice is hereby given of a meeting of the AIDS Research Advisory Committee, NIAID.

The meeting will be open to the public, with attendance limited to space available. Individuals who plan to attend and need special assistance, such as sign language interpretation or other reasonable accommodations, should notify the Contact Person listed below in advance of the meeting.

Name of Committee: AIDS Research Advisory Committee, NIAID.

Date: February 6, 2013.

Time: 8:00 a.m. to 4:00 p.m.

Agenda: To update the Subcommittee on the recently awarded Centers for HIV/AIDS, Vaccine Immunology and Immunogen Discovery (CHAVI-ID). The principal investigators and scientific leadership groups for the two CHAVI-ID grants will present their research plans during this day-long meeting.

Place: National Institutes of Health, Natcher Building, Conference Rooms E1/E2, 45 Center Drive, Bethesda, MD 20892.

Contact Person: James A. Bradac, Ph.D., Program Official, Preclinical Research and Development Branch, Division of AIDS, Room 5116, National Institutes of Health/NIAID, 6700B Rockledge Drive, Bethesda, MD 20892-7628, 301-435-3754, jbradac@mail.nih.gov.

(Catalogue of Federal Domestic Assistance Program Nos. 93.855, Allergy, Immunology, and Transplantation Research; 93.856, Microbiology and Infectious Diseases Research, National Institutes of Health, HHS)

Dated: December 18, 2012.
David Clary,
Program Analyst, Office of Federal Advisory Committee Policy.

[FR Doc. 2012-30902 Filed 12-21-12; 8:45 am]

BILLING CODE 4140-01-P